DEPARTMENT OF THE TREASURY

Internal Revenue Service

26 CFR Part 1

[TD 9446]

RIN 1545-BGO9

Gain Recognition Agreements With Respect to Certain Transfers of Stock or Securities by United States Persons to Foreign Corporations; Correction

AGENCY: Internal Revenue Service (IRS), Treasury.

ACTION: Correcting amendments.

SUMMARY: This document contains corrections to final regulations (TD 9446) that were published in the Federal Register on Wednesday, February 11, 2009 concerning gain recognition agreements filed by United States persons with respect to transfers of stock or securities to foreign corporations.

DATES: This correction is effective on March 27, 2009, and is applicable on March 13, 2009.

FOR FURTHER INFORMATION CONTACT: S. James Hawes, (202) 622-3860 (not a toll-free number).

SUPPLEMENTARY INFORMATION:

Background

The final regulations that are the subject of this document are under section 367(a) of the Internal Revenue Code.

Need for Correction

The final regulations (TD 9446) that were published in the Federal Register on February 11, 2009 (74 FR 6952), inadvertently removed Treas. Reg. § 1.367(a)-3T in its entirety rather than removing § 1.367(a)-3T(e), (f)(1), (f)(2), and the second sentence of § 1.367(a)-3T(f)(3). This document correctly adds the text of § 1.367(a)-3T back into the Code of Federal Regulations.

List of Subjects in 26 CFR Part 1

Income taxes, Reporting and recordkeeping requirements.

Correction of Publication

Accordingly, 26 CFR part 1 is corrected by making the following correcting amendments:

PART 1—INCOME TAXES

Paragraph 1. The authority citation for part 1 continues to read in part as follows:

Authority: 26 U.S.C. 7805 * * *

Par. 2. Section 1.367(a)-3T is added to read as follows:

§ 1.367(a)-3T Treatment of transfers of stock or securities to foreign corporations (temporary).

(a) through (b)(2)(i)(B) [Reserved]. For further guidance, see § 1.367(a)-3(a) through (b)(2)(i)(B).

(b)(2)(i)(C) If in connection with a transaction described in § 1.367(b)-14T, one or more U.S. persons transfer stock of T, as defined in § 1.358-6(b)(1)(iii), to a corporation in a transfer described in section 367(a), and the amount of gain in the T stock that would otherwise be recognized under section 367(a) is less than the deemed distribution that would result from the adjustments made under § 1.367(b)-14T and that would be treated as a dividend under section 301(c)(1), then section 367(b), and not section 367(a), shall apply to such transaction. This paragraph (b)(2)(i)(C) applies to transfers occurring on or after May 23, 2008.

(b)(2)(ii) through (f) [Reserved]. For further guidance, see § 1.367(a)-3(b)(2)(ii) through (f).

(g) Effective/applicability date. Paragraph (b)(2)(i)(C) of this section applies to transfers occurring on or after May 23, 2008.

(h) Expiration date. The applicability of paragraph (b)(2)(i)(C) of this section expires on May 23, 2011.

Par. 3. Section 1.367(a)-8(r)(2) is amended by revising the paragraph heading to read as follows:

§ 1.367(a)-8 Gain recognition agreement requirements.

* * * * *

(r) * * *

(2) Applicability to transfers occurring before March 13, 2009 * * *

* * * * *

Robin Jones,
Federal Register Liaison, Publications and Regulations Branch, Legal Processing Division, Associate Chief Counsel (Procedure and Administration).

[FR Doc. E9-6871 Filed 3-26-09; 8:45 am]

BILLING CODE 4830-01-P